DEPARTMENT OF THE INTERIOR

National Park Service

Correction—Notice of Inventory Completion for Native American Human Remains and Associated Funerary Objects in the Possession of the Putnam Museum of History and Natural Science, Davenport, IA

AGENCY: National Park Service, Interior.

ACTION: Correction.

Notice is hereby given in accordance with provisions of the Native American Graves Protection and Repatriation Act (NAGPRA), 43 CFR 10.9, of the completion of an inventory of human remains and associated funerary objects in the possession of the Putnam Museum of History and Natural Science, Davenport, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

This notice corrects the list of tribes to which the human remains and associated funerary objects may be repatriated in the Notice of Inventory Completion published March 26, 1997 (Federal Register Document 97-7602, pages 14441-14442).

In the sixth paragraph, the final sentence which reads “Repatriation of the human remains and associated funerary objects to the Iowa Tribe of Oklahoma may begin after that date if no additional claimants come forward,” is corrected to read “Repatriation of the human remains and associated funerary objects to the Iowa Tribe of Oklahoma; the Sac and Fox Tribe of the Mississippi in Iowa; the Sac and Fox Nation of Missouri in Kansas and Nebraska; and the Sac and Fox Nation, Oklahoma may begin after that date if no additional claimants come forward.”

Dated: April 20, 2001.
John Robbins,
Assistant Director, Cultural Resources Stewardship and Partnerships.

[FR Doc. 01-15303 Filed 6-15-01; 8:45 am]

BILLING CODE 4310-70-F